DEPARTMENT OF TRANSPORTATION

Federal Aviation Administration

14 CFR Part 39

[Docket No. FAA-2014-0394; Directorate Identifier 2014-SW-015-AD; Amendment 39-17875; AD 2014-13-01]

RIN 2120-AA64

Airworthiness Directives; Airbus Helicopters Deutschland GmbH (Airbus Helicopters) (Previously Eurocopter Deutschland GmbH) Helicopters

AGENCY: Federal Aviation Administration (FAA), Department of Transportation (DOT).

ACTION: Final rule; request for comments.

SUMMARY: We are adopting a new airworthiness directive (AD) for Airbus Helicopters Model MBB-BK 117 C-2 helicopters with a certain Goodrich rescue hoist damper unit (damper unit) installed. This AD requires repairing or replacing the damper unit or deactivating the rescue hoist. This AD is prompted by a report of an uncommanded detachment of a damper unit from the cable. These actions are intended to prevent loss of an external load or person from the helicopter hoist and injury to persons being lifted by the hoist.

DATES: This AD becomes effective July 15, 2014.

The Director of the Federal Register approved the incorporation by reference of a certain document listed in this AD as of July 15, 2014.

We must receive comments on this AD by August 29, 2014.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this AD, the European Aviation Safety Agency (EASA) AD, any incorporated by reference service information, the economic evaluation, any comments received, and other information. The street address for the Docket Operations Office (telephone 800- 647-5527) is in the ADDRESSES section. Comments will be available in the AD docket shortly after receipt.

For service information identified in this AD, contact Airbus Helicopters, Inc., 2701 N. Forum Drive, Grand Prairie, TX 75052; telephone (972) 641-0000 or (800) 232-0323; fax (972) 641-3775; or at http://www.airbushelicopters.com/techpub. You may review the referenced service information at the FAA, Office of the Regional Counsel, Southwest Region, 2601 Meacham Blvd., Room 663, Fort Worth, Texas 76137.

FOR FURTHER INFORMATION CONTACT: George Schwab, Aviation Safety Engineer, Safety Management Group, Rotorcraft Directorate, FAA, 2601 Meacham Blvd., Fort Worth, Texas 76137; telephone (817) 222-5110; email george.schwab@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

EASA, which is the Technical Agent for the Member States of the European Union, has issued AD No. 2014-0057, dated March 6, 2014, and corrected March 7, 2014 (AD 2014-0057), to correct an unsafe condition for Airbus Helicopters Model MBB-BK 117 C-2 helicopters. EASA advises that a rescue hoist damper unit detached from the cable when the hoist damper was lifted by hand with no load attached. EASA further advises that an investigation revealed the retaining ring inside the damper unit was not located in the proper position, and that this displacement of the retaining ring may have occurred as a maintenance error or as a result of interference with the bonding strap unit during normal use. EASA further states that this condition could lead to the detachment of an external load or person from the helicopter hoist, possibly resulting in personal injury or injury to persons on the ground.

To address this unsafe condition, EASA issued AD 2014-0057, which supersedes AD No. 2014-0046-E, dated February 27, 2014, and which requires replacing Goodrich rescue hoist damper unit/rescue winch damper, part number (P/N) 44307-480, P/N 44307-480-1, or P/N 44307-480-2, or deactivating the rescue hoist. AD 2014-0057 also requires modifying the damper unit's bonding strap and replacing the retaining ring, which allows reactivation of the rescue hoist. Lastly, AD 2014-0057 implements a recurring 100 hoist-cycle inspection of the retaining ring for correct installation.

FAA's Determination

These helicopters have been approved by the aviation authority of Germany and are approved for operation in the United States. Pursuant to our bilateral agreement with Germany, EASA, its technical representative, has notified us of the unsafe condition described in the EASA AD. We are issuing this AD because we evaluated all information provided by EASA and determined the unsafe condition exists and is likely to exist or develop on other helicopters of the same type design.

Related Service Information

Airbus Helicopters has issued Emergency Alert Service Bulletin No. ASB MBB-BK117 C-2-85A-041, Revision 2, dated March 4, 2014, which describes procedures for modifying the bonding strap unit, installing an improved retaining ring, and inspecting the retaining ring.

AD Requirements

This AD requires, before the next hoist operation, either repairing the hoist damper unit by following specified portions of the service information, replacing the hoist damper unit with a unit that has been repaired by following specified portions of the service information, or deactivating the rescue hoist.

Differences Between This AD and the EASA AD

The EASA AD requires a 100 hoist-cycle repetitive inspection, while this AD does not. We plan to publish a notice of proposed rulemaking to give the public an opportunity to comment on those long-term requirements.

Interim Action

We consider this AD to be an interim action. If final action is later identified, we might consider further rulemaking then.

Costs of Compliance

We estimate that this AD will affect 118 helicopters of U.S. Registry. We estimate that operators may incur the following costs in order to comply with this AD. At an average labor rate of $85 per hour, repairing the hoist damper unit will require 5 work-hours, and required parts will cost $4, for a cost per helicopter of $429. Replacing the hoist damper unit will require 1 work-hour, and required parts will cost $8,715, for a cost per helicopter of $8,800. Deactivating the rescue hoist will require .5 work-hour, for a cost per helicopter of $43.

According to Airbus Helicopters' service information, some of the costs of this AD may be covered under warranty, thereby reducing the cost impact on affected individuals. We do not control warranty coverage by Airbus Helicopters. Accordingly, we have included all costs in our cost estimate.

FAA's Justification and Determination of the Effective Date

Providing an opportunity for public comments before adopting these AD requirements would delay implementing the safety actions needed to correct this known unsafe condition. Therefore, we find that the risk to the flying public justifies waiving notice and comment prior to adopting this rule because the required corrective actions must be done before the next hoist operation.

Since an unsafe condition exists that requires the immediate adoption of this AD, we determined that notice and opportunity for public comment before issuing this AD are impracticable and contrary to the public interest and that good cause exists for making this amendment effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-13-01 Airbus Helicopters Deutschland GmbH (Airbus Helicopters) (Previously Eurocopter Deutschland GmbH): Amendment 39-17875; Docket No. FAA-2014-0394; Directorate Identifier 2014-SW-015-AD.

(a) Applicability

This AD applies to Airbus Helicopters Model MBB-BK 117 C-2 helicopters with a Goodrich hoist damper unit, part number (P/N) 44307-480, P/N 44307-480-1, or P/N 44307-480-2, installed, certificated in any category.

(b) Unsafe Condition

This AD defines the unsafe condition as uncommanded detachment of the external hoist damper unit, which could result in loss of an external load or person from the hoist, resulting in injury to persons being lifted by the hoist.

(c) Effective Date

This AD becomes effective July 15, 2014.

(d) Compliance

You are responsible for performing each action required by this AD within the specified compliance time unless it has already been accomplished prior to that time.

(e) Required Actions

Before the next hoist operation, comply with paragraph (e)(1), (e)(2), or (e)(3) of this AD:

(1) Repair and re-identify each hoist damper unit in accordance with the Accomplishment Instructions, paragraph 3.B.1, of Airbus Helicopters Emergency Alert Service Bulletin ASB No. MBB-BK117 C-2-85A-041, Revision 2, dated March 4, 2014; or

(2) Replace each hoist damper unit with a unit that has been repaired as required by paragraph (e)(1) of this AD; or

(3) Deactivate the rescue hoist system.

(f) Alternative Methods of Compliance (AMOCs)

(1) The Manager, Safety Management Group, FAA, may approve AMOCs for this AD. Send your proposal to: George Schwab, Aviation Safety Engineer, Safety Management Group, Rotorcraft Directorate, FAA, 2601 Meacham Blvd., Fort Worth, Texas 76137; telephone (817) 222-5110; email george.schwab@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

The subject of this AD is addressed in European Aviation Safety Agency (EASA) AD No. 2014-0057, dated March 6, 2014, and corrected March 7, 2014. You may view the EASA AD on the Internet at http://www.regulations.gov in Docket No. FAA-2014-0394.

(h) Subject

Joint Aircraft Service Component (JASC) Code: 2500: Cabin Equipment Furnishings.

(i) Material Incorporated by Reference

(1) The Director of the Federal Register approved the incorporation by reference of the service information listed in this paragraph under 5 U.S.C. 552(a) and 1 CFR part 51.

(2) You must use this service information as applicable to do the actions required by this AD, unless the AD specifies otherwise.

(i) Airbus Helicopters Emergency Alert Service Bulletin No. ASB MBB-BK117 C-2-85A-041, Revision 2, dated March 4, 2014.

(ii) Reserved.

(3) For Airbus Helicopters service information identified in this AD, contact Airbus Helicopters, Inc., 2701 N. Forum Drive, Grand Prairie, TX 75052; telephone (972) 641-0000 or (800) 232-0323; fax (972) 641-3775; or at http://www.airbushelicopters.com/techpub.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on June 13, 2014.
Kim Smith,
Directorate Manager, Rotorcraft Directorate, Aircraft Certification Service.

[FR Doc. 2014-14623 Filed 6-27-14; 8:45 am]

BILLING CODE 4910-13-P